DEPARTMENT OF ENERGY

Federal Energy Regulatory Commission

Notice of Attendance at PJM Interconnection, L.L.C. Meetings

The Federal Energy Regulatory Commission (Commission) hereby gives notice that members of the Commission and Commission staff may attend upcoming PJM Interconnection, L.L.C. (PJM) Members Committee and Markets and Reliability Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM Web site.

PJM Members Committee

• April 28, 2016—(Wilmington, DE)

• May 17-19, 2016—(Cambridge, MD)

• June 30, 2016—(Wilmington, DE)

• July 28, 2016—(TBD)

• September 29, 2016—(TBD)

• October 27, 2016—(TBD)

• November 17, 2016—(TBD)

PJM Markets and Reliability Committee

• April 28, 2016—(Wilmington, DE)

• May 26, 2016—(Wilmington, DE)

• June 30, 2016—(Wilmington, DE)

• July 28, 2016—(TBD)

• August 25, 2016—(TBD)

• September 29, 2016—(TBD)

• October 27, 2016—(TBD)

• November 17, 2016—(TBD)

• December 22, 2016—(TBD)

PJM Market Implementation Committee

• May 11, 2016—(Audubon, PA)

• June 8, 2016—(Audubon, PA)

• July 13, 2016—(Audubon, PA)

• August 10, 2016—(Audubon, PA)

• September 14, 2016—(Audubon, PA)

• October 5, 2016—(Audubon, PA)

• November 2, 2016—(Audubon, PA)

• December 14, 2016—(Audubon, PA)

The discussions at each of the meetings described above may address matters at issue in pending proceedings before the Commission, including the following currently pending proceedings:

Docket No. EL05-121, PJM Interconnection, L.L.C.

Docket No. EL08-14, Black Oak Energy LLC, et al., v. FERC

Docket No. ER11-1844, Midwest Independent Transmission System Operator, Inc.

Docket Nos. AD12-1 and ER11-4081, Midwest Independent Transmission System Operator, Inc.

Docket No. EL12-54, Viridity Energy, Inc. v. PJM Interconnection, L.L.C.

Docket No. EL13-88, Northern Indiana Public Service Company v. Midcontinent Independent System Operator, Inc. and PJM Interconnection, L.L.C.

Docket No. ER13-90, Public Service Electric and Gas Company and PJM Interconnection, L.L.C.

Docket No. ER13-195, Indicated PJM Transmission Owners

Docket No. ER13-349, PJM Interconnection, L.L.C.

Docket No. ER13-535, PJM Interconnection, L.L.C.

Docket No. ER13-1654, PJM Interconnection, L.L.C.

Docket No. ER13-1924, PJM Interconnection, L.L.C. and Duquesne Light Company

Docket No. ER13-1926, PJM Interconnection, L.L.C.

Docket No. ER13-1942, New York Independent System Operator, Inc.

Docket No. ER13-1943, Midcontinent Independent System Operator, Inc.

Docket No. ER13-1944, PJM Interconnection, L.L.C.

Docket No. ER13-1945, Midcontinent Independent System Operator, Inc.

Docket No. ER13-1955, Entergy Services, Inc.

Docket No. ER13-1956, Cleco Power LLC

Docket No. ER13-2108, PJM Interconnection, L.L.C.

Docket No. EL14-20, Independent Market Monitor v. PJM Interconnection, L.L.C.

Docket No. EL14-37, PJM Interconnection, L.L.C.

Docket Nos. EL14-94, EL14-36, FirstEnergy Solutions Corporation and PJM Interconnection, L.L.C.

Docket No. ER14-504, PJM Interconnection, L.L.C.

Docket No. ER14-822, PJM Interconnection, L.L.C.

Docket No. ER14-972, PJM Interconnection, L.L.C.

Docket No. ER14-1144, PJM Interconnection, L.L.C.

Docket No. ER14-1145, PJM Interconnection, L.L.C.

Docket Nos. ER14-1461, EL14-48, PJM Interconnection, L.L.C.

Docket No. ER14-1485, PJM Interconnection, L.L.C.

Docket No. ER14-2242, Old Dominion Electric Cooperative

Docket No. ER14-2940, PJM Interconnection, L.L.C.

Docket Nos. EL15-15, ER15-696, PJM Interconnection, L.L.C.

Docket No. EL15-18, Consolidated Edison Company of New York, Inc. v. PJM Interconnection, L.L.C.

Docket No. EL15-38, RTO Energy Trading, LLC

Docket No. EL15-41, Essential Power Rock Springs, LLC, et al., v. PJM Interconnection, L.L.C.

Docket No. EL15-67, Linden VFT, LLC v. PJM Interconnection, L.L.C.

Docket No. EL15-79, TranSource, LLC v. PJM Interconnection, L.L.C.

Docket No. EL15-80, Advanced Energy Management Alliance Coalition v. PJM Interconnection, L.L.C.

Docket No. EL15-95, Maryland and Delaware State Commissions v. PJM Interconnection, L.L.C.

Docket No. ER15-532, PJM Interconnection, L.L.C.

Docket Nos. ER15-623, EL15-29, PJM Interconnection, L.L.C.

Docket No. ER15-746, RC Cape May Holdings, LLC

Docket No. ER15-834, Illinois Municipal Electric Agency

Docket No. ER15-952, New Jersey Energy Associates, A Limited Partnership

Docket No. ER15-994, PJM Interconnection, L.L.C.

Docket Nos. ER15-1344, ER15-1387, PJM Interconnection, L.L.C.

Docket Nos. ER15-2562, ER15-2563, PJM Interconnection, L.L.C.

Docket No. ER15-2613, PJM Interconnection, L.L.C., and Midcontinent Independent System Operator, Inc.

Docket Nos. EL16-6, ER16-121, PJM Interconnection, L.L.C.

Docket No. EL16-9, Big Sandy Peaker Plant, LLC et al. v. PJM Interconnection, L.L.C.

Docket Nos. EL15-73, ER16-372, PJM Interconnection, L.L.C.

Docket No. ER16-453, PJM Interconnection, L.L.C., and Northeast Transmission Development, LLC

Docket Nos. ER16-535, ER16-536, PJM Interconnection, L.L.C. and Midcontinent Independent System Operator, Inc.

Docket No. ER16-736, PJM Interconnection, L.L.C.

Docket No. ER16-1004, PJM Interconnection, L.L.C.

Docket No. ER16-1150, PJM Interconnection, L.L.C.

Docket No. ER16-1232, PJM Interconnection, L.L.C.

Docket No. ER16-1335, PJM Interconnection, L.L.C.

Docket No. ER16-1336, PJM Interconnection, L.L.C.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: April 25, 2016.
Kimberly D. Bose,
Secretary.

[FR Doc. 2016-10095 Filed 4-29-16; 8:45 am]

BILLING CODE 6717-01-P